DEPARTMENT OF LABOR

Employment and Training Administration

[TA-W-62,832]

GAF Materials Corporation, Quakertown, PA; Notice of Negative Determination Regarding Application for Reconsideration

By application dated May 5, 2008, International Association of Machinists and Aerospace Workers, District 1 requested administrative reconsideration of the Department's negative determination regarding eligibility to apply for Trade Adjustment Assistance (TAA) and Alternative Trade Adjustment Assistance (ATAA), applicable to workers and former workers of the subject firm. The denial notice was signed on March 26, 2008 and published in the Federal Register on April 11, 2008 (73 FR 19900).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination was based on the finding that imports of residential roofing materials did not contribute importantly to worker separations at the subject facility and there was no shift of production to a foreign country. The subject firm did not import residential roofing materials during the relevant period. The “contributed importantly” test is generally demonstrated through a survey of the workers' firm's declining domestic customers. A survey conducted by the Department of Labor revealed that major customers did not purchase imported residential roofing materials during 2006, 2007 and during the January through February 2008 period.

The petitioner indicates that “The workers produced asphaltic roofing materials and that the sales and employment at the firm declined during the relevant period.”

Since the worker group was denied on the fact that imports did not contribute importantly to the layoffs at the subject firm and no shift of production to a foreign source occurred, the information provided by the petitioner in the request for reconsideration does not help to satisfy the criteria necessary for certification for TAA.

The request for reconsideration also appears to address workers eligibility for ATAA. The petitioner states that “a significant number of employees at this location are 50 or older and do not possess skills that are easily transferable.”

In order for the Department to issue a certification of eligibility to apply for ATAA, the worker group must be certified eligible to apply for trade adjustment assistance (TAA). Since the workers are denied eligibility to apply for TAA, the workers cannot be certified eligible for ATAA.

The Union did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 4th day of June, 2008.
Elliott S. Kushner,
Certifying Officer, Division of Trade Adjustment Assistance.

[FR Doc. E8-13405 Filed 6-13-08; 8:45 am]

BILLING CODE 4510-FN-P